DEPARTMENT OF ENERGY

Ultra-Deepwater and Unconventional Natural Gas and Other Petroleum Resources Research and Development Program 2011 Annual Plan

AGENCY: Office of Fossil Energy, Department of Energy.

ACTION: Notice of report availability.

SUMMARY: The Office of Fossil Energy announces the availability of the 2011 Annual Plan for the Ultra-Deepwater and Unconventional Natural Gas and Other Petroleum Resources Research and Development Program on the DOE Web site at http://www.fossil.energy.gov/programs/oilgas/ultra_and_unconventional/2011-2012_Committees/2011_annual_plan.pdf or in print form (see “Contact” below). The 2011 Annual Plan is in compliance with the Energy Policy Act of 2005, Subtitle J, Section 999B(e)(3) which requires the publication of this plan and all written comments in the Federal Register.

FOR FURTHER INFORMATION CONTACT: Elena Melchert, U.S. Department of Energy, Office of Oil and Natural Gas, Mail Stop FE-30, 1000 Independence Avenue, SW., Washington, DC 20585 or phone: (202) 586-5600 or e-mail to UltraDeepwater@hq.doe.gov.

SUPPLEMENTARY INFORMATION:

Executive Summary [Excerpted From the 2011 Annual Plan p. iii]

As the Nation transitions to the clean energy economy of the future, we must also ensure that we effectively mitigate the risks of our current energy portfolio.

This 2011 Annual Plan, the fifth such plan to be produced since the launch of the Ultra-Deepwater and Unconventional Natural Gas and Other Petroleum Resources Research Program, reflects an important shift in priorities towards safety and environmental sustainability. This shift is based on the recognition that a critical element in prudently developing our domestic resource base is a scientific assessment of the risks which exploration and production activities entail, and the development of appropriate technologies and processes to mitigate these risks.

Domestic deepwater and ultra-deepwater oil and gas resources, and domestic unconventional natural gas resources, are important contributors to our Nation's energy supply portfolio. Recent events, the Macondo well blowout and the Deepwater Horizon explosion in the Gulf of Mexico, and growing public opposition to the rapid pace of shale gas development onshore are stark reminders of the environmental risks of our current energy portfolio. The 2011 Annual Plan proposes scientific research that will quantify and mitigate risks associated with oil and gas exploration and production onshore and offshore, thereby improving safety and minimizing environmental impacts.

The Department will ensure that the federal government's understanding of the risks associated with these operations keeps pace. This will be accomplished through scientific assessment of the risks, potential impacts, and adequacy of current response and mitigation technologies.

The research discussed in this Annual Report will be administered by the Research Partnership to Secure Energy for America (RPSEA), which operates under the guidance of the Secretary of Energy. RPSEA is a consortium which includes representatives from industry, academia and research institutions. RPSEA's expertise in all areas of the exploration and production value chain ensure that the Department of Energy's research program has access to relevant emerging technologies and processes, and that projects are designed in a way that have a direct impact on practices in the field.

Background

Offshore and onshore research activities are administered pursuant to an annual plan in compliance with Title IX, Subtitle J of EPACT, which directs that $50 million per year of federal royalties, rents and bonus payments be used to fund an oil and natural gas research and development (R&D) effort, the Ultra-Deepwater and Unconventional Natural Gas and Other Petroleum Resources Research Program (Program).

The Secretary of Energy approves all awards to research performers, and the planned R&D activities support the goals and objectives of the annual plan. The research activities are administered by a Program Consortium that has been selected by the Secretary, as detailed in the Program Consortium section below.

The National Energy Technology Laboratory (NETL) is responsible for implementation of the Program. Within NETL, the responsibility for overall program implementation, including oversight of the Program Consortium contract, has been assigned to the Strategic Center for Natural Gas and Oil.

Complementary research prescribed under Section 999A(d) is carried out by NETL's Office of Research and Development.

Program Consortium

In 2006, DOE selected the Research Partnership to Secure Energy for America (RPSEA) through a competitive solicitation to serve as the Program Consortium and administer the research activities pursuant to Section 999B(c).

RPSEA has a broad membership base that includes representatives from all levels and sectors of both the oil and natural gas exploration and production (E&P) and oil and natural gas R&D communities. The breadth of membership helps to ensure that R&D funds leverage existing industry efforts in accomplishing the Program's objectives.

Administration funds provided to RPSEA cannot exceed 10 percent pursuant to Section 999G(3). The private companies, universities, and other organizations that are awarded contracts through this program provide cost-share contributions of at least 20 percent.

The Annual Plan Development Process

Pursuant to Section 999B(e)(2)(A), the Program Consortium prepared its 2011 Draft Annual Plan (DAP) which it delivered to the Secretary July 2010. The Department of Energy prepared a Draft 2011 Annual Plan. Subsequently, the Draft 2011 Annual Plan and the DAP were reviewed by the Unconventional Resources Technology Advisory Committee (URTAC) which presented its final report of findings and recommendations in October 2010.

On February 2, 2011, the Secretary of Energy appointed new members to his Ultra-Deepwater Advisory Committee (UDAC), and met with the members on February 23, 2011 to discuss his goals for offshore research and development. Before presenting its final report of findings and recommendations to the Secretary in April 2011, the UDAC established a Subcommittee on Risk Assessment.

The Department of Energy will be continually informed by the UDAC based on the work of its Subcommittee on Risk. In addition, other Federal advisory bodies will help inform the Department. These include the Secretary of Energy Advisory Board (SEAB) which established a Subcommittee on Natural Gas, and the Department of the Interior's Ocean Energy Safety Committee (OESC) which has established four subcommittees including the Spill Prevention Subcommittee, and the Containment Subcommittee. The Department of Energy is a member of the OESC. The Department will take new information into account in the preparation of solicitations and the selection of research projects for the 2011 portfolio.

Issued in Washington, DC, on September 7, 2011.
Christopher A. Smith,
Deputy Assistant Secretary, Office of Oil and Natural Gas, Office of Fossil Energy.

[FR Doc. 2011-23328 Filed 9-12-11; 8:45 am]

BILLING CODE 6450-01-P